DEPARTMENT OF DEFENSE

Department of the Air Force

Notice of Record of Decision for the Environmental Impact Statement Air National Guard F-15EX Eagle II & F-35A Lightning II Operational Beddowns

AGENCY: Department of the Air Force, Department of Defense.

ACTION: Notice of Availability of Record of Decision.

SUMMARY: On December 19, 2024, the Department of the Air Force (DAF) signed the Record of Decision (ROD) for the Air National Guard F-15EX Eagle II & F-35A Lightning II Operational Beddowns Environmental Impact Statement.

ADDRESSES: Mr. Devin Scherer (NGB/A4), Air National Guard Readiness Center; 3501 Fetchet Avenue; Joint Base Andrews, MD 20762; ngb.a4.a4a.nepa.comments.org@us.af.mil; (240) 612-8422.

SUPPLEMENTARY INFORMATION: The DAF has decided to replace the aging F-15C/D fighter aircraft at the 104th Fighter Wing (104 FW) at Westfield-Barnes Regional Airport, Westfield, Massachusetts; 144th Fighter Wing (144 FW) at Fresno Yosemite International Airport, Fresno, California; and the 159th Fighter Wing (159 FW) at Naval Air Station Joint Reserve Base New Orleans, Belle Chasse, Louisiana. At the 104 FW, 18 F-15C aircraft will be replaced with up to 21 F-35A aircraft. At the 144 FW, 18 F-15C aircraft will be replaced with up to 21 F-15EX aircraft. At the 159 FW 18 F-15C/D aircraft will be replaced with up to 21 F-15EX aircraft.

The DAF decision documented in the ROD was based on matters discussed in the Final Environmental Impact Statement, inputs from the public and regulatory agencies, and other relevant factors. The Final Environmental Impact Statement was made available to the public on November 15, 2024 through a Notice of Availability in the Federal Register (89 FR 90280) with a waiting period that ended on December 16, 2024.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2025-00069 Filed 1-6-25; 8:45 am]

BILLING CODE 3911-44-P